DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revisions and three-year extension to the following Petroleum Supply Forms: EIA-800, “Weekly Refinery and Fractionator Report,” EIA-802, “Weekly Product Pipeline Report,” EIA-803, “Weekly Crude Oil Stocks Report,” EIA-804, “Weekly Imports Report,” EIA-805, “Weekly Terminal Blenders Report,” EIA-809, “Weekly Oxygenate Report,” EIA-810, “Monthly Refinery Report,” EIA-812, “Monthly Product Pipeline Report,” EIA-813, “Monthly Crude Oil Report,” EIA-814, “Monthly Imports Report,” EIA-815, “Monthly Terminal and Blender Report,” EIA-816, “Monthly Natural Gas Liquids Report,” EIA-817, “Monthly Tanker and Barge Movement Report,” EIA-819, “Monthly Oxygenate Report,” and EIA-820, “Annual Refinery Report.”

DATES: Comments must be filed by July 6, 2009. If you anticipate difficulty in submitting comments within that period, contact the person listed below as soon as possible.

ADDRESSES: Send comments to Sylvia Norris. To ensure receipt of the comments by the due date, submission by FAX (202-586-1076) or e-mail (sylvia.norris@eia.doe.gov) is recommended. The mailing address is Petroleum Division, EI-42, Forrestal Building, U.S. Department of Energy, 1000 Independence Ave., SW., Washington, DC 20585. Alternatively, Sylvia Norris may be contacted by telephone at 202-586-6106.

FOR FURTHER INFORMATION CONTACT: Requests for additional information or copies of any forms and instructions should be directed to Sylvia Norris at the address listed above. The proposed forms and changes in definitions and instructions are also available on the Internet at: http://www.eia.doe.gov/oil_gas/petroleum/survey_forms/pet_survey_forms.html.

SUPPLEMENTARY INFORMATION:

I. Background

II. Current Actions

III. Request for Comments

I. Background

The Federal Energy Administration Act of 1974 (Pub. L. No. 93-275, 15 U.S.C. 761 et seq.,) and the DOE Organization Act (Pub. L. No. 95-91, 42 U.S.C. 7101 et seq.,) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. 3501 et seq.,), provides the general public and other Federal agencies with opportunities to comment on collections of energy information conducted by or in conjunction with the EIA. Any comments received help the EIA prepare data requests that maximize the utility of the information collected, and to assess the impact of collection requirements on the public. Also, the EIA will later seek approval for this collection by the Office of Management and Budget (OMB) under Section 3507(a) of the Paperwork Reduction Act of 1995.

The weekly petroleum supply surveys (Forms EIA-800, EIA-802, EIA-803, EIA-804, EIA-805 and EIA-809) are designed to highlight information on petroleum refinery operations, inventory levels, and imports of selected petroleum products in a timely manner. The information appears in the publications listed below and is also available electronically through the Internet at http://www.eia.doe.gov/oil_gas/petroleum/info_glance/petroleum.html.

Publications: Internet only publications are the Weekly Petroleum Status Report, Short-Term Energy Outlook, and This Week in Petroleum.

The monthly petroleum supply surveys (Forms EIA-810, EIA-812, EIA-813, EIA-814, EIA-815, EIA-816, EIA-817, and EIA-819) are designed to provide statistically reliable and comprehensive information not available from other sources to EIA, other Federal agencies, and the private sector for use in forecasting, policy making, planning, and analysis activities. The information appears in the publications listed below and is also available electronically through the Internet at http://www.eia.doe.gov/oil_gas/petroleum/info_glance/petroleum.html.

Publications: Internet only publications are the Petroleum Supply Monthly, Petroleum Supply Annual, and Short-Term Energy Outlook. Hardcopy and Internet publications are the Monthly Energy Review (DOE/EIA-0035), the Annual Energy Review (DOE/EIA-0384), and the Annual Energy Outlook (DOE/EIA-0383).

The annual petroleum supply survey (Form EIA-820) provides data on the operations of all operating and idle petroleum refineries (including new refineries under construction), blending plants, refineries shutdown with useable storage capacity, and refineries shutdown during the previous year. The information appears in the Refinery Capacity Report and in the Petroleum Supply Annual, Volume 1 are available electronically through the Internet at http://www.eia.doe.gov/oil_gas/petroleum/info_glance/petroleum.html.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

The EIA proposes the following changes: EIA-800 (Weekly Refinery Report)—Collect gross inputs and gross production rather than net production for the following products: propane (including propylene), fuel ethanol, finished motor gasoline, (reformulated—blended with fuel ethanol, reformulated—other, conventional—blended with fuel ethanol (Ed55 and lower and greater than Ed55), conventional—other; motor gasoline blending components (reformulated blendstock for oxygenate blending (RBOB), conventional blendstock for oxygenate blending (CBOB), gasoline treated as blendstock (GTAB), all other blending components; kerosene, kerosene-type jet fuel (commercial and military), distillate fuel oil (15 ppm sulfur and under, greater than 15 to 500 ppm sulfur (incl.), greater than 500 ppm sulfur) and residual fuel oil. Collect ending stocks of natural gas liquids and liquefied refinery gases, fuel ethanol, kerosene, and asphalt and road oil.

For the form EIA-801 (Weekly Bulk Terminal Report)—Discontinue collection of this report. All bulk terminal and blender reporting will be reported by site on Form EIA-805 (Weekly Bulk Terminal and Blender Report).

For the form EIA-802 (Weekly Product Pipeline Report)—Collect ending stocks for natural gas liquids and liquefied refinery gases, fuel ethanol and kerosene.

For the form EIA-804 (Weekly Imports Report)—Collect imports for crude oil delivered to U.S. Strategic Petroleum Reserve, natural gas liquids and liquefied petroleum gases, fuel ethanol and kerosene. EIA proposes to modify list of countries for which imports of crude oil are collected by discontinuing the collection of crude imports by country for Argentina, China, Indonesia, Iran, Libya, Norway, Qatar, Trinidad, United Arab Emirates, United Kingdom and adding Brazil and Equatorial Guinea.

For the form EIA-805 (Weekly Bulk Terminal and Blender Report)—Collect inventories for natural gas liquids and liquefied refinery gases, propane (including propylene), propylene (nonfuel use), fuel ethanol, finished motor gasoline (reformulated blended with fuel ethanol, reformulated other, conventional (Ed55 and lower, greater than Ed55), conventional other), motor gasoline blending components (RBOB, CBOB, GTAB and all other), kerosene-type jet fuel, kerosene, distillate fuel oil (15 ppm sulfur and under, greater than 15 ppm to 500 ppm sulfur (incl), greater than 500 ppm sulfur), residual fuel oil and asphalt and road oil. Collect inputs and production for fuel ethanol, jet fuel, distillate fuel oil (15 ppm sulfur and under, greater than 15 ppm to 500 ppm sulfur (incl), greater than 500 ppm sulfur), and residual fuel oil

EIA proposes a new weekly form, EIA-809 (Weekly Oxygenate Report) to collect fuel ethanol production (denatured and undenatured) and end of week inventories.

For the form EIA-810 (Monthly Refinery Report)—Add input to catalytic reformers to the list of downstream unit inputs; combine reporting of natural gas liquids and liquefied refinery gases into one area on EIA-810. Collect receipts and fuel use/losses for hydrogen. Collect full material balance for other hydrocarbons. Eliminate combined total for renewable fuels and oxygenates and collect separate totals.

EIA proposes to discontinue collection of form EIA-811 (Monthly Bulk Terminal Report)—All bulk terminal and blender reporting will be reported by site on form EIA-815 (Monthly Bulk Terminal and Blenders Report).

For the form EIA-813 (Crude Oil Report)—Eliminate reporting of crude oil consumed as fuel. Collect receipts of domestic crude oil into Strategic Petroleum Reserve.

For the form EIA-814 (Monthly Imports Report)—Allow reporting of terminal control numbers in lieu of name, city and state for processing company location.

For the form EIA-815 (Monthly Terminal Blenders Report)—Modify natural gas liquids (NGL) and liquefied refinery gases (LRG) reporting so that full line balance is required for total NGPL and LRG rather than for each NGPL and LRG product. Individual NGPL and LRG products will be reported only for ending stocks and inputs. Modify unfinished oils reporting so that a full line balance is required for total unfinished oils rather than for each unfinished oils product. Individual unfinished oils products will be reported for inputs, production and ending stocks. Discontinue collection of production for ethyl tertiary butyl ether (ETBE), methyl tertiary butyl ether (MTBE) and other oxygenates.

For the form EIA-816 (Monthly Natural Gas Liquids Report)—Discontinue collection of inputs of pentanes plus.

For the form EIA-817 (Monthly Tanker and Barge Movement Report)—Discontinue collection of finished motor gasoline (reformulated—blended with ether and reformulated—non-oxygenated); motor gasoline blending components (RBOB—for blending with ether and RBOB—for blending with fuel ethanol); reformulated and conventional GTAB splits and only collect total GTAB.

For the form EIA-819 (Monthly Oxygenate Report)—Collect annually fuel ethanol production capacity measured as nameplate capacity and the maximum sustainable capacity over a 6 month period. Collect inputs, production and ending stocks for denatured and undenatured fuel ethanol. Split reporting of inputs into two sections: denaturants blended with fuel ethanol and blending to produce finished motor gasoline.

For forms EIA-800, EIA-802, EIA-804, EIA-805, EIA-810, EIA-812, EIA-814, EIA-817, and EIA-819, combine finished motor gasoline (reformulated, non-oxygenated and reformulated, blended with ether) into single category labeled reformulated, other; combine motor gasoline blending components (reformulated, blended with ether and reformulated, blended with alcohol) into single category labeled RBOB. Discontinue motor gasoline blending components reformulated and conventional GTAB splits and only collect total GTAB. Collect additional detail for production of finished motor gasoline, conventional (blended with fuel ethanol) by collecting subcategories for Ed55 and lower and greater than Ed55.

For the form EIA-820 (Annual Refinery Report)—Allow reporting of catalytic reformer capacity in barrels per calendar day.

III. Request for Comments

Prospective respondents and other interested parties should comment on the actions discussed in item II. The following guidelines are provided to assist in the preparation of comments. Please indicate to which form(s) your comments apply.

As a Potential Respondent to the Request for Information:

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average:

Estimated hours per response: EIA-800, “Weekly Refinery and Fractionator Report,”—1.58 hours; EIA-802, “Weekly Product Pipeline Report,”—0.95 hours; EIA-803, “Weekly Crude Oil Stocks Report,”—0.50 hours; EIA-804, “Weekly Imports Report,”—1.75 hours; EIA-805, “Weekly Terminal Blenders Report,”—1.50 hours; EIA-809, “Weekly Oxygenate Report,”—0.30 hours; EIA-810, “Monthly Refinery Report,”—5.00 hours; EIA-812, “Monthly Product Pipeline Report,”—3.00 hours; EIA-813, “Monthly Crude Oil Report,”—1.50 hours; EIA-814, “Monthly Imports Report,”—2.55 hours; EIA-815, “Monthly Terminal Blenders Report,”—3.55 hours; EIA-816, “Monthly Natural Gas Liquids Report,”—0.95 hours; EIA-817, “Monthly Tanker and Barge Movement Report,”—2.25 hours; EIA-819, “Monthly Oxygenate Report,”—1.50 hours; and EIA-820, “Annual Refinery Report”—2.40 hours. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information to be Collected:

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the forms. They also will become a matter of public record.

Statutory Authority: Federal Energy Administration Act of 1974 (15 U.S.C. 761 et seq.), and the DOE Organization Act (42 U.S.C. 7101).

Issued in Washington, DC, April 30, 2009.
Stephanie Brown,
Director, Statistics and Methods Group, Energy Information Administration.

[FR Doc. E9-10471 Filed 5-5-09; 8:45 am]

BILLING CODE 6450-01-P